DEPARTMENT OF ENERGY

Federal Energy Regulatory Commission

[Project No. 13526-002-KS]

Bowersock Mills and Power Company; Notice of Availability of Environmental Assessment

August 19, 2010.

In accordance with the National Environmental Policy Act of 1969 and the Federal Energy Regulatory Commission (Commission) regulations, 18 CFR Part 380 (Order No. 486, 52 FR 47879), the Office of Energy Projects has reviewed the application for an original license for the Bowersock Mills and Power Company's Expanded Kansas River Hydropower Project, to be located on the Kansas River, Douglas County, Lawrence, Kansas, and prepared an environmental assessment (EA). In the EA, Commission staff analyzed the potential environmental effects of licensing the project and concluded that issuing a license, with appropriate environmental measures, would not constitute a major federal action significantly affecting the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Any comments should be filed within 30 days from the issuance date of this notice, and should be addressed to the Secretary, Federal Energy Regulatory Commission, 888 First Street, NE., Room 1-A, Washington, DC 20426. Please affix “Expanded Kansas River Hydropower Project No. 13526-002” to all comments. Comments may be filed electronically via the Internet in lieu of paper. The Commission strongly encourages electronic filings which may be filed at http://www.ferc.gov/docs-filing/efiling.asp. See 18 CFR 385.2001(a)(1)(iii) and the instructions on the Commission's Web site under the “eFiling” link.

For further information, contact Monte TerHaar at (202) 502-6035.

Kimberly D. Bose,
Secretary.

[FR Doc. 2010-21168 Filed 8-25-10; 8:45 am]

BILLING CODE 6717-01-P